DEPARTMENT OF THE INTERIOR

Fish and Wildlife Service

[FWS-R1-ES-2011-N065; 10120-1112-0000-F3]

Endangered and Threatened Wildlife and Plants; Proposed Programmatic Safe Harbor Agreement for the Lahontan Cutthroat Trout in Southeastern Oregon

AGENCY: Fish and Wildlife Service, Interior.

ACTION: Notice of availability; receipt of permit application.

SUMMARY: The Oregon Department of Fish and Wildlife (ODFW) has applied to the U.S. Fish and Wildlife Service (Service) for an enhancement of survival permit pursuant to the Endangered Species Act of 1973, as amended (ESA). The permit application includes a proposed Programmatic Safe Harbor Agreement (Agreement) between the ODFW and the Service. The requested permit would authorize the ODFW to extend incidental take coverage with assurances to eligible landowners who are willing to carry out habitat management measures that would benefit the threatened Lahontan cutthroat trout (Oncorhynchus clarki henshawi) by enrolling them under the Agreement as Cooperators through issuance of Certificates of Inclusion. The covered area or geographic scope of this Agreement includes the Quinn River, Coyote Lake, and Alvord basins located in Harney and Malheur Counties, Oregon. The Service is making the permit application, proposed Agreement, and related documents available for public review and comment.

DATES: All comments must be received from interested parties on or before July 29, 2011.

ADDRESSES: Please address written comments to Nancy Gilbert, Field Supervisor, Bend Field Office, U.S. Fish and Wildlife Service, 20310 Empire Ave., Ste. A-100, Bend, OR 97701. Alternatively, you may send comments by facsimile to (541) 383-7638. Please include your name and return address in your comments and refer to the “Lahontan Cutthroat Trout Programmatic Safe Harbor Agreement.”

FOR FURTHER INFORMATION CONTACT: Nancy Gilbert, Field Supervisor, Bend Field Office (see ADDRESSES above); telephone (541) 383-7146. Persons who use a telecommunications device for the deaf (TDD) may call the Federal Information Relay Service (FIRS) at (800) 877-8339, 24 hours a day, 7 days a week.

SUPPLEMENTARY INFORMATION:

Availability of Documents

You may obtain copies of the documents for review by contacting the Service's Bend Field Office (see ADDRESSES above), or by making an appointment to view the documents at the above address during normal business hours. These documents are also available electronically for review on the Service's Bend Field Office Web site at http://www.fws.gov/oregonfwo/FieldOffices/Bend/. Comments and materials we receive, as well as supporting documentation we used in preparing the Agreement, will become part of the public record and will be available for public inspection, by appointment, during normal business hours. Before including your address, phone number, e-mail address, or other personal identifying information in your comment, you should be aware that your entire comment—including your personal identifying information—may be made publicly available at any time. While you can ask us in your comment to withhold your personal identifying information from public review, we cannot guarantee that we will be able to do so.

Background

The Lahontan cutthroat trout was listed as an endangered species by the Service in 1970 (35 FR 16047; October 13, 1970) and reclassified as threatened in 1975 (40 FR 29863; July 16, 1975). The primary threats affecting Lahontan cutthroat trout include habitat degradation, habitat fragmentation, and hybridization with and competition from introduced nonnative salmonids. On March 30, 2009, the Service completed a 5-year status review of the Lahontan cutthroat trout that determined that “Lahontan cutthroat trout populations have been and continue to be impacted by nonnative species interactions, habitat fragmentation and isolation, degraded habitat conditions, drought, and fire.” Furthermore, the status review found that “[t]he present or threatened destruction, modification, or curtailment of [the] Lahontan cutthroat trout's habitat and range continues to be a significant threat and in some instances is increasing in magnitude and severity.”

Under a Safe Harbor Agreement, participating landowners voluntarily undertake management activities on their property to enhance, restore, or maintain habitat benefiting species listed under the ESA (16 U.S.C. 1531 et seq.). Safe Harbor Agreements, and the subsequent enhancement of survival permits that are issued pursuant to section 10(a)(1)(A) of the ESA, encourage private and other non-Federal property owners to implement conservation efforts for listed species by assuring the landowners that they will not be subjected to increased property use restrictions as a result of their efforts to either attract listed species to their property, or to increase the numbers or distribution of listed species already on their property. Application requirements and issuance criteria for enhancement of survival permits for Safe Harbor Agreements are found in 50 CFR 17.22(c). These permits allow any necessary future incidental take of any covered species above the mutually agreed upon baseline conditions for those species in accordance with the terms of the permit and accompanying agreement.

Proposed Agreement

We jointly developed the proposed Agreement with the ODFW for the conservation of the Lahontan cutthroat trout. The proposed term of the permit and Agreement is 30 years. The area covered by this Agreement includes all non-Federal land portions of the Quinn River, Coyote Lake, and Alvord basins located in Harney and Malheur Counties, Oregon; these areas comprise the estimated historical and current distribution of the species in Oregon. Sites within basins not currently occupied by the Lahontan cutthroat trout will have a baseline condition of zero unless a landowner is willing to accept a baseline greater than zero to support an enhanced level of conservation after the Agreement expires. Sites within basins currently occupied by the Lahontan cutthroat trout will have their baseline conditions determined on a case-by-case basis, with landowner consent.

The purpose of this Agreement is to enhance the reintroduction and long-term recovery of the Lahontan cutthroat trout within the Northwest Geographic Management Unit that includes the Quinn River, Coyote Lake, and Alvord basins in southeastern Oregon, by encouraging private landowners to voluntarily create, enhance, maintain, or restore Lahontan cutthroat trout habitat. Under this Agreement, private lands may be enrolled through individual Cooperative Agreements between the ODFW and cooperating landowners (Cooperators). The duration of the Cooperative Agreements will be a minimum of 10 years. Cooperators will be issued a Certificate of Inclusion, which will allow activities on the enrolled properties to be covered by ODFW's section 10(a)(1)(A) Enhancement of Survival permit. Cooperators may renew their Cooperative Agreements to remain in effect for the 30-year duration of the permit.

Cooperators will avoid conducting activities that could adversely affect the Lahontan cutthroat trout's habitat during the term of their Cooperative Agreement. Using site-specific Cooperative Agreements, ODFW intends to enroll landowners who are willing to allow the introduction or expansion of Lahontan cutthroat trout within streams on their private lands. Landowners would also voluntarily commit to engage in conservation practices that may include: Control of herd stocking rates and seasons, livestock exclusion, off-site water development, alternative haying, crop selection modification, fertilizer management, and modification of irrigation practices. Several additional conservation measures that may be implemented include: Road or trail management, including improved stream crossings or fish passage structures; riparian vegetation plantings and rehabilitation projects; and stream habitat improvement projects.

Without the regulatory assurances provided through the Agreement and permit, landowners may be unwilling or reluctant to engage in activities that would place federally listed species such as the Lahontan cutthroat trout onto their properties. The proposed Agreement is expected to provide a net conservation benefit to the Lahontan cutthroat trout in Oregon by expanding and possibly creating new populations through translocations or by enhancing the quality, quantity, or connectivity of existing habitat for naturally occurring populations, thereby increasing the distribution and abundance of the species.

The Service has made a preliminary determination that the proposed Agreement and permit application are eligible for a categorical exclusion under the National Environmental Policy Act of 1969 (42 U.S.C. 4321 et seq.; NEPA). We explain the basis for this determination in an Environmental Action Statement that is also available for public review (see Availability of Documents section above). The Service will evaluate the permit application, associated documents, and comments submitted thereon to determine whether the permit application meets the requirements of section 10(a)(1)(A) of the ESA and NEPA regulations.

If we determine that all requirements are met, we will sign the Agreement and issue an enhancement of survival permit under section 10(a)(1)(A) of the ESA to ODFW for the take of Lahontan cutthroat trout, incidental to otherwise lawful activities in accordance with the terms of the Agreement. This notice is provided pursuant to section 10(c) of the ESA and NEPA regulations (40 CFR 1506.6).

Dated: June 21, 2011.
Paul Henson,
State Supervisor, Oregon Fish and Wildlife Office, Portland, Oregon.

[FR Doc. 2011-16336 Filed 6-28-11; 8:45 am]

BILLING CODE P